DEPARTMENT OF ENERGY

Office of Science; Fusion Energy Sciences Advisory Committee

AGENCY: Department of Energy.

ACTION: Notice of open meeting.

SUMMARY: This notice announces a meeting of the Fusion Energy Sciences Advisory Committee. The Federal Advisory Committee Act (Pub. L. 92-463, 86 Stat. 770) requires that public notice of these meetings be announced in the Federal Register.

DATES: Tuesday, February 19, 8:30 a.m. to 6:30 p.m. and Wednesday, February 20, 2008, 8:30 a.m. to noon.

ADDRESSES: The Gaithersburg Hilton, 620 Perry Parkway, Gaithersburg, Maryland 20878, USA.

FOR FURTHER INFORMATION CONTACT: Albert L. Opdenaker, Office of Fusion Energy Sciences, U.S. Department of Energy, 1000 Independence Avenue, SW., Washington, DC 20585-1290; Telephone: 301-903-4927.

SUPPLEMENTARY INFORMATION: Purpose of the Meeting: During the coming year, the Office of Science (SC) will be developing a new strategic plan for the Fusion Energy Sciences (FES) program. The Fusion Energy Sciences Advisory Committee (FESAC) recently completed addressing a charge on the magnetic fusion portion of the FES program. At this meeting, FESAC will be charged to address the remaining portions of the FES program—alternate concepts, high energy density laboratory plasmas and inertial fusion energy, and plasma sciences. In addition, the committee will discuss how it plans to approach each of the new charges and schedules to complete them. Once the recommendations and advice from FESAC on all of these portions of the program are complete, the Office of Science will be prepared to write the new strategic plan that will carry the FES program through the next important period in establishing the knowledge base for an economically and environmentally attractive fusion energy source.

Tentative Agenda

Tuesday, February 19, 2008

• DOE Perspective.

• OFES Perspective.

• ITER Project Status.

• Discussion of the Charge on High Energy Density Laboratory Plasmas.

• Presentation on the Low Temperature Plasma Physics Workshop.

• Discussion of the Charge on Non-Tokamak Confinement Concepts.

• Public Comments.

Wednesday, February 20, 2008

• Discussion of Strategic Plan Development.

• Adjourn.

Public Participation: The meeting is open to the public. If you would like to file a written statement with the Committee, you may do so either before or after the meeting. If you would like to make oral statements regarding any of the items on the agenda, you should contact Albert L. Opdenaker at 301-903-8584 (fax) or albert.opdenaker@science.doe.gov (e-mail). Reasonable provision will be made to include the scheduled oral statements on the agenda. The Chairperson of the Committee will conduct the meeting to facilitate the orderly conduct of business. Public comment will follow the 10-minute rule. This notice is being published less than 15 days before the date of the meeting due to programmatic issues.

Minutes: The minutes of the meeting will be available on the U.S. Department of Energy's Office of Fusion Energy Sciences Web site (http://www.science.doe.gov/ofes/).

Issued at Washington, DC, on February 8, 2008.
Rachel Samuel,
Deputy Committee Management Officer.

3

[FR Doc. E8-2642 Filed 2-12-08; 8:45 am]

BILLING CODE 6450-01-P